COMMITTEE FOR PURCHASE FROM PEOPLE WHO ARE BLIND OR SEVERELY DISABLED

Procurement List; Proposed Addition and Deletions

AGENCY: Committee for Purchase From People Who Are Blind or Severely Disabled.

ACTION: Notice; correction.

SUMMARY: The Committee for Purchase From People Who Are Blind or Severely Disabled published a document in the Federal Register of March 30, 2018, concerning a notice of Proposed Additions and Deletions.

FOR FURTHER INFORMATION CONTACT: Amy B. Jensen, Telephone: (703) 603-2132.

SUPPLEMENTARY INFORMATION:

Correction

In the Federal Register of March 30, 2018, in FR Doc. 2018-06492, (83 FR 13739), the Committee would like to correct the notice heading from ” Initial Regulatory Flexibility Act Certification” to “Procurement List; Proposed Additions and Deletions”. In addition, the notice should have contained the following information:

Procurement List; Proposed Addition and Deletions

AGENCY: Committee for Purchase From People Who Are Blind or Severely Disabled.

ACTION: Proposed additions to and deletions from the Procurement List.

SUMMARY: The Committee is proposing to add products to the Procurement List that will be furnished by a nonprofit agency employing persons who are blind or have other severe disabilities, and deletes products and service previously furnished by such agencies.

DATES: Comments must be received on or before: April 29, 2018.

ADDRESSES: Committee for Purchase From People Who Are Blind or Severely Disabled, 1401 S. Clark Street, Suite 715, Arlington, Virginia, 22202-4149.

FOR FURTHER INFORMATION CONTACT: For further information or to submit comments contact: Amy B. Jensen, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the products listed below from nonprofit agency employing persons who are blind or have other severe disabilities.

The following products are proposed for addition to the Procurement List for production by the nonprofit agency listed:

Products

NSN(s)—Product Name(s):

5180-00-NIB-0025—Tool, Kit Refrigeration, Individual.

5180-00-NIB-0026—Tool Kit, Refrigeration, Base.

Mandatory for: 100% of the requirements of the U.S. Army.

Mandatory Source of Supply: Beyond Vision, Milwaukee, WI.

Contracting Activity: U.S. Army Contracting Command—Warren.

Distribution: C-List.

Deletions

The following products and service are proposed for deletion from the Procurement List:

Products

NSN(s)—Product Name(s):

7930-01-619-1851—Cleaner, Wheel and Tire, 5 GL

7930-01-619-2632—Bug Remover, Concentrated, Gelling, Vehicle, 5 GL

Mandatory Source of Supply: VisionCorps, Lancaster, PA.

Contracting Activity: General Services Administration, Fort Worth, TX.

Service

Service Type: Grounds Maintenance Service.

Mandatory for: Naval & Marine Corps Reserve Center, Encino, CA.

Mandatory Source of Supply: Lincoln Training Center and Rehabilitation Workshop, South El Monte, CA.

Contracting Activity: Dept of the Navy, U.S. Fleet Forces Command.

Dated: March 26, 2018.
Amy Jensen,
Director, Business Operations.

[FR Doc. 2018-08322 Filed 5-2-18; 8:45 am]

BILLING CODE 6353-01-P